DEPARTMENT OF EDUCATION

Interagency Committee on Disability Research

AGENCY: Office of Special Education and Rehabilitative Services, Department of Education.

ACTION: Notice of public meetings and request for written comments.

SUMMARY: This notice describes the schedule and agenda of a forthcoming meeting of the Interagency Committee on Disability Research (ICDR). Notice of this meeting is intended to inform members of the general public of their opportunity to attend the meeting and provide comment.

DATES: The meeting will take place on August 14, 2007.

ADDRESSES: The meeting will be held from 10 a.m. to 3 p.m. at the Holiday Inn on the Hill, 415 New Jersey Avenue, NW., Washington, DC 20001. Telephone: (202) 638-1616.

SUPPLEMENTARY INFORMATION: During the public meeting and through the submission of written comments, we encourage individuals with disabilities, including persons who represent service providers, service provider organizations, disability and rehabilitation research and policy groups, and representatives of advocacy organizations with specialized knowledge and experience, to suggest specific ways to improve future research for individuals with disabilities. We are also interested in hearing from individuals concerning how well the existing Federal research programs are responding to the changing needs of individuals with disabilities. We are interested in comments covering a wide range of research areas, including, but not limited to, the following:

• Rehabilitation, employment and community integration of military service members with disabilities, with a specific interest in input from the military community, including active duty service members and their families, service providers, retirees, and other stakeholders about research issues related to the continuum of care;

• Employment of people with disabilities;

• Health disparities;

• Access to and development of assistive technology and universally designed technologies; and

• Transition of youths with disabilities to postsecondary education, employment and independent living.

Your input will be used by the ICDR in its deliberations; however, we cannot respond individually to your comments. The meetings will be open and accessible to the general public.

Background

The ICDR, authorized by the Rehabilitation Act of 1973, as amended, promotes coordination and cooperation among Federal departments and agencies conducting disability and rehabilitation research programs. Representatives of 16 Federal agencies, including 59 institutes and offices within those agencies, participate in the ICDR. The mandate of the ICDR includes three goals: Identify emerging issues and topic areas in disability and rehabilitation that would benefit from coordinated research planning, program development, and federal funding efforts; assess gaps and duplication in existing research programs, activities, and plans across agencies; and seek to coordinate existing or planned research, programs, activities, or projects among federal agencies. According to statute (Rehabilitation Act of 1973, as amended): “After receiving input from individuals with disabilities and the individuals’ representatives, the Committee shall identify, assess, and seek to coordinate all Federal programs, activities, and projects, and plans for such programs, activities, and projects with respect to the conduct of research related to rehabilitation of individuals with disabilities.”

The ICDR maintains a public Web site at http://www.icdr.us, which contains additional information about the ICDR. This public Web site also provides a comment form for collection of comments regarding the Federal research agenda in disability and rehabilitation research. The purpose of this public meeting and request for written comments is to ensure that individuals who may not have access to the Internet and the ICDR public Web site also have an opportunity to submit comments.

The Director of the National Institute on Disability and Rehabilitation Research, Office of Special Education and Rehabilitative Services, Department of Education is Chair of the ICDR. The Director announces a public meeting in 2007 and invites written comments with respect to the Federal disability and rehabilitation research agenda. Representatives of the ICDR will be present at the meeting to hear your comments. Your comments will be used by the ICDR in its deliberations; however we will not respond individually to your comments.

FOR FURTHER INFORMATION CONTACT: Constance Pledger, Executive Director ICDR, U.S. Department of Education, 550 12th Street, SW., room 6039, Potomac Center Plaza (PCP), Washington, DC 20202-2700. Telephone: (202) 245-7480. Fax: (202) 245-7630. Internet: connie.pledger@ed.gov.

Individuals who use a telecommunications device for the deaf (TDD) may call the Federal Relay Service (FRS) at 1-800-877-8339.

Individuals who need accommodations for a disability in order to attend the meeting (i.e., interpreting services, assistive listening devices, material in alternative format) should notify Constance Pledger at (202) 245-7480 or TDD users may call FRS at 1-800-877-8339 ten business days in advance of the meeting. The meeting location is accessible to individuals with disabilities.

Participants: Individuals who wish to present comments at the public meeting must reserve time on the agenda by contacting the individual identified under Reservations and Additional Meeting Information. Reservations for presenting comments will be accepted on a first-come, first-served basis. Given the expected number of individuals interested in presenting comments at the meeting, reservations should be made as soon as possible.

Format: Participants will be allowed approximately five minutes to present their comments, depending upon the number of individuals who reserve time on the agenda. Prior to the meeting, participants must submit written copies of their comments, and other written or electronic versions of any relevant supporting information. Walk-ins must bring two written copies of their comments.

Reservations and Additional Meeting Information: All individuals attending the public meeting, including those presenting comments, must make reservations by July 31, 2007 by contacting: Constance Pledger, Executive Director ICDR.

If time permits, individuals who have not registered in advance may be allowed to make comments.

Assistance to Individuals with Disabilities at the Public Meeting: The meeting room and proceedings will be accessible to individuals with disabilities. In addition, when making reservations, anyone presenting comments or attending the meetings who needs special accommodations, such as sign language interpreters, Brailled agenda, computer-assisted real-time (CART) reporting, should inform Constance Pledger, Executive Director ICDR, of his or her specific accessibility needs. You must make requests for accommodations on or before July 31, 2007. Although we will attempt to meet a request we receive after that date, we may not be able to make available the requested auxiliary aid or service because of insufficient time to arrange it.

Due Dates: We request your registration to attend along with written and e-mail comments to be provided no later than July 31, 2007.

Submit all comments to: Constance Pledger, Executive Director ICDR, U.S. Department of Education, 550 12th Street, SW., room 6039, PCP, Washington, DC 20202-2700. Telephone: (202) 245-7480. Fax: (202) 245-7630. Internet: Connie.Pledger@ed.gov.

Individuals who use a telecommunications device for the deaf (TDD) may call the FRS at 1-800-877-8339.

Individuals with disabilities may obtain a copy of this notice in an alternative format (e.g., Braille, large print, audiotape, or computer diskette) on request on request to the contact person listed under FOR FURTHER INFORMATION CONTACT.

Electronic Access to This Document

You may review this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office, toll free, at 1-888-293-6498; or in the Washington, DC area, at (202) 512-1530.

Note: The official version of this document is the document published in the Federal Register. Free Internet access to the official edition of the Federal Register and the Code of Federal Regulations is available on GPO Access at: http://www.gpoaccess.gov/nara/index.html.

Dated: June 22, 2007.
John H. Hager,
Assistant Secretary for Special Education and Rehabilitative Services.

[FR Doc. E7-12503 Filed 6-27-07; 8:45 am]

BILLING CODE 4000-01-P